DEPARTMENT OF TRANSPORTATION

Office of the Secretary

Notice of Applications for Certificates of Public Convenience and Necessity and Foreign Air Carrier Permits Filed Under Subpart B (Formerly Subpart Q) During the Week Ending June 6, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2004-17315.

Date Filed: June 1, 2009.

Due Date for Answers, Conforming Applications, or Motion to Modify Scope: June 22, 2009.

Description: Application of Cargojet Airways, Ltd. (“Cargojet”) requesting the Department amend and renew its exemption authority, and issue it a foreign air carrier permit, authorizing it to engage in: (1) Foreign scheduled and charter air transportation of persons, property and mail from points behind Canada, via Canada and intermediate points, to a point or points in the United States and beyond; (2) foreign scheduled and charter air transportation of property and mail between any point or points in the United States and any other point or points; and (3) other charter operations. Cargojet also requests a statement of authorization to conduct intermodal cargo service between any U.S. point and any other U.S. point.

Barbara J. Hairston,
Supervisory Dockets Officer, Docket Operations, Alternate Federal Register Liaison.

[FR Doc. E9-15108 Filed 6-25-09; 8:45 am]

BILLING CODE 4910-9X-P